ENVIRONMENTAL PROTECTION AGENCY

40 CFR Part 81

[MI79-01-7288b; FRL-7242-9]

Designation of Areas for Air Quality Planning Purposes; Deletion of Total Suspended Particulate Designations in Michigan

AGENCY: Environmental Protection Agency (EPA).

ACTION: Proposed rule.

SUMMARY: We are proposing to delete from the lists contained in 40 CFR part 81 the attainment status designations (attainment, unclassifiable and nonattainment) for Michigan affected by the original national ambient air quality standards for particulate matter measured as total suspended particulate (TSP). In accordance with section 107(d)(3)(B) of the Clean Air Act, the Administrator has determined that the selected area designations for TSP are no longer necessary for implementing the requirements for prevention of significant deterioration of air quality for particulate matter. In the final rules section of this Federal Register, we are deleting the TSP area designations for Michigan as a direct final rule without prior proposal, because we view this as a noncontroversial revision amendment and anticipate no adverse comments. A detailed rationale for the approval is set forth in the direct final rule. If no adverse comments are received in response to the direct final rule, no further activity is contemplated in relation to this proposed rule. If we receive adverse comments, the direct final rule will be withdrawn and all public comments received will be addressed in a subsequent final rule based on this proposed rule. We will not institute a second comment period on this action. Any parties interested in commenting on this action should do so at this time.

DATES: Written comments must be received on or before August 9, 2002.

ADDRESSES: Written comments should be sent to: Carlton T. Nash, Chief, Regulation Development Section, Air Programs Branch (AR-18J), EPA Region 5, 77 West Jackson Boulevard, Chicago, Illinois 60604-3590.

FOR FURTHER INFORMATION CONTACT: Christos Panos, Regulation Development Section, Air Programs Branch (AR-18J), EPA Region 5, 77 West Jackson Boulevard, Chicago, Illinois 60604, (312) 353-8328

SUPPLEMENTARY INFORMATION: For additional information, see the Direct Final rule which is located in the Rules section of this Federal Register. Copies of the request and the EPA's analysis are available for inspection at the above address. (Please telephone Christos Panos at (312) 353-8328 before visiting the Region 5 Office.)

Dated: June 24, 2002.
Bharat Mathur,
Acting Regional Administrator, Region 5.

[FR Doc. 02-17239 Filed 7-9-02; 8:45 am]

BILLING CODE 6560-50-P